FEDERAL COMMUNICATIONS COMMISSION

47 CFR Part 73

[DA 04-2053; MM Docket No. 99-275; RM-9704]

Radio Broadcasting Services; Keno, OR

AGENCY: Federal Communications Commission.

ACTION: Proposal rule; dismissal.

SUMMARY: This document dismisses a petition for rulemaking filed by Renaissance Community Improvement Association, Inc. proposing the allotment of Channel 235A to Keno, Oregon. See 64 FR 49135, published September 10, 1999. With this action, the proceeding is terminated.

FOR FURTHER INFORMATION CONTACT: Robert Hayne, Mass Media Bureau (202) 418-2177.

SUPPLEMENTARY INFORMATION: This is a synopsis of the Commission's Report and Order in MM Docket No. 99-275, adopted July 7, 2004, and released July 9, 2004. The full text of this decision is available for inspection and copying during normal business hours in the FCC's Reference Information Center at Portals II, CY-A257, 445 12th Street, SW., Washington, DC 20554. The complete text of this decision may also be purchased from the Commission's copy contractor, Best Copy and Printing, Inc., 445 12th Street, SW., Room CY-B402, Washington, DC 20554, telephone 1-800-378-3160 or www.BCPIWEB.com. This document is not subject to the Congressional Review Act. (The Commission is, therefore, not required to submit a copy of this Report and Order to GAO, pursuant to the Congressional Review Act, see 5 U.S.C. 801(a)(1)(A), because this proposed rule was dismissed.)

Federal Communications Commission.
John A. Karousos,
Assistant Chief, Audio Division, Media Bureau.

[FR Doc. 04-16610 Filed 7-20-04; 8:45 am]

BILLING CODE 6712-01-P